DEPARTMENT OF COMMERCE

National Oceanic and Atmospheric Administration

RIN 0648-XC701

Fishing Capacity Reduction Program for the Southeast Alaska Purse Seine Salmon Fishery

AGENCY: National Marine Fisheries Service (NMFS), National Oceanic and Atmospheric Administration, Commerce.

ACTION: Notice of fee rate adjustment.

SUMMARY: NMFS issues this notice to decrease the fee rate to repay the $13,133,030 reduction loan for the fishing capacity reduction program in the Southeast Alaska purse seine salmon fishery.

DATES: The fee rate decrease is effective June 1, 2013.

ADDRESSES: Send questions about this notice to Paul Marx, Chief, Financial Services Division, National Marine Fisheries Service, 1315 East-West Highway, Silver Spring, MD 20910-3282.

FOR FURTHER INFORMATION CONTACT: Paul Marx, (301) 427-8799.

SUPPLEMENTARY INFORMATION:

I. Background

NMFS' authority to make the loan resides in sections 1111 and 1112 of the Merchant Marine Act, 1936 (46 App. U.S.C. 1279(f) and 1279(g) (MMA) (title XI)).

The Program was authorized in the Consolidated Appropriations Act of 2005 (Section 209 of Title II of Division B of Pub. L. 108-447) and waives all of the fishing capacity reduction program requirements of the Magnuson-Stevens Act (Sections 312(b)-(e)) codified at 16 U.S.C. 1801 et seq. except for Sections (b)(1)(C) and (d) which state: (1) It must be cost-effective; and (2) it is subject to a referendum approved by a majority of permit holders.

NMFS published proposed program regulations on May 23, 2011 (76 FR 29707), and final program regulations on October 6, 2011 (76 FR 61985), to implement the reduction program. Subsequently, the Southeast Revitalization Association submitted a capacity reduction plan to NMFS. NMFS approved the plan on February 24, 2012. NMFS published the list of eligible voters on March 1, 2012 (77 FR 12568) and the notice of referendum period on March 29, 2012 (77 FR 19004). Interested persons should review these for further program details.

NMFS conducted a referendum where the majority of permit holders voted to repay a fishing capacity reduction loan to purchase the permits identified in the reduction plan.

On May 7, 2012, NMFS published another Federal Register document (77 FR 26744) advising the public that NMFS would tender the program's reduction payments to the 64 selected bidders who would permanently stop fishing with the permits they had relinquished in return for reduction payments. Subsequently, NMFS disbursed $13,133,030 in reduction payments to the 64 selected bidders.

NMFS published a Federal Register notice on July 16, 2012 (77 FR 41754), informing the public that fee collection would begin on July 22, 2012. Since then, all harvesters of Southeast Alaska purse seine salmon must pay the fee and all fish buyers of Southeast Alaska purse seine salmon must collect the fee in accordance with the applicable regulations.

II. Purpose

The purpose of this notice is to adjust the fee rate for the reduction fishery in accordance with the framework rule's 50 CFR 600.1013(b). Section 600.1013(b) directs NMFS to recalculate the fee to a rate that will be reasonably necessary to ensure reduction loan repayment within the specified 40 year term.

The initial fee applicable to the Southeast Alaska purse seine salmon program's reduction fishery was 3.00% of landed value and any subsequent bonus payments. NMFS has determined that this is more than is needed to service the loan. Therefore, NMFS is decreasing the fee rate to 1.50% of landed value and any subsequent bonus payments which NMFS has determined is sufficient to ensure timely loan repayment. Fish buyers may continue to use Pay.gov to disburse collected fee deposits at: http://www.pay.gov/paygov/.

Please visit the NMFS Web site for additional information at: http://www.nmfs.noaa.gov/mb/financial_services/buyback.htm.

III. Notice

The new fee rate for the Southeast Alaska purse seine salmon fishery is effective June 1, 2013.

Fish sellers and fish buyers must pay and collect the fee in the manner set out in 50 CFR 600.1107 and the framework rule. Consequently, all harvesters and fish buyers should read 50 CFR Subpart L § 600.1013 to understand how fish harvesters must pay and fish buyers must collect the fee.

Dated: May 31, 2013.
Gary Reisner,
Director, Office of Management and Budget, National Marine Fisheries Service.

[FR Doc. 2013-13316 Filed 6-4-13; 8:45 am]

BILLING CODE 3510-22-P